ENVIRONMENTAL PROTECTION AGENCY

[FRL-9701-4]

Announcement of the Board of Trustees for the National Environmental Education Foundation

AGENCY: Environmental Protection Agency; Office of External Affairs and Environmental Education.

ACTION: Notice.

SUMMARY: The National Environmental Education Foundation (NEEF) was created by Section 10 of Public Law 101-619, the National Environmental Education Act of 1990. It is a private 501(c)(3) non-profit organization established to promote and support education and training as necessary tools to further environmental protection and sustainable, environmentally sound development. It provides the common ground upon which leaders from business and industry, all levels of government, public interest groups, and others can work cooperatively to expand the reach of environmental education and training programs beyond the traditional classroom. The Foundation supports a grant program that promotes innovative environmental education and training programs; it also develops partnerships with government and other organizations to administer projects that promote the development of an environmentally literate public. The Administrator of the U.S. Environmental Protection Agency, as required by the terms of the Act, announces the following appointment to the National Environmental Education Foundation Board of Trustees. The appointee is Wonya Lucas, Chief Executive Officer and President of TV One, LLC.

FOR FURTHER INFORMATION CONTACT: For information regarding this Notice of Appointment, please contact Mrs. Stephanie Owens, Deputy Associate Administrator, Office of External Affairs and Environmental Education (1701A) U.S. EPA, 1200 Pennsylvania Ave. NW., Washington, DC 20460. General information concerning NEEF can be found on their Web site at: http://www.neefusa.org.

SUPPLEMENTARY INFORMATION: Additional Considerations: Great care has been taken to assure that this new appointee not only has the highest degree of expertise and commitment, but also brings to the Board diverse points of view relating to environmental education. This appointment is a four-year term which may be renewed once for an additional four years pending successful re-election by the NEEF nominating committee.

This appointee will join the current Board members which include:

• Decker Anstrom, Former CEO, The Weather Channel Companies

• JL Armstrong (NEEF Vice Chair), National Manger, Toyota Motor Sales, USA, Inc.

• Raymond Ban, Executive Vice President, The Weather Channel

• Holly Cannon, Principal, Beveridge and Diamond, P.C.

• Phillipe Cousteau, Co-Founder and CEO, EarthEcho International

• Manuel Alberto Diaz, Partner, Lydecker Diaz, L.L.P.

• Arthur Gibson (NEEF Chair), Vice President, Environment, Health and Safety, Baxter Healthcare Corporation

• Kenneth Olden, Chairman, Avon Foundation Scientific Advisory Board

• Trish Silber, President, Aliniad Consulting Partners, Inc.

• Bradley Smith, Dean, Huxley College of the Environment, Western Washington University

• Kenneth Strassner (NEEF Treasurer), Vice President, Global Environment, Safety, Regulatory and Scientific Affairs, Kimberly-Clark Corporation

• Diane Wood (NEEF Secretary), President, National Environmental Education Foundation

Background: Section 10(a) of the National Environmental Education Act of 1990 mandates a National Environmental Education Foundation. The Foundation is established in order to extend the contribution of environmental education and training to meeting critical environmental protection needs, both in this country and internationally; to facilitate the cooperation, coordination, and contribution of public and private resources to create an environmentally advanced educational system; and to foster an open and effective partnership among Federal, State, and local government, business, industry, academic institutions, community based environmental groups, and international organizations.

The Foundation is a charitable and nonprofit corporation whose income is exempt from tax, and donations to which are tax deductible to the same extent as those organizations listed pursuant to section 501(c) of the Internal Revenue Code of 1986. The Foundation is not an agency or establishment of the United States. The purposes of the Foundation are—

(A) Subject to the limitation contained in the final sentence of subsection (d) herein, to encourage, accept, leverage, and administer private gifts for the benefit of, or in connection with, the environmental education and training activities and services of the United States Environmental Protection Agency;

(B) To conduct such other environmental education activities as will further the development of an environmentally conscious and responsible public, a well-trained and environmentally literate workforce, and an environmentally advanced educational system;

(C) To participate with foreign entities and individuals in the conduct and coordination of activities that will further opportunities for environmental education and training to address environmental issues and problems involving the United States and Canada or Mexico.

The Foundation develops, supports, and/or operates programs and projects to educate and train educational and environmental professionals, and to assist them in the development and delivery of environmental education and training programs and studies.

The Foundation has a governing Board of Directors (hereafter referred to in this section as `the Board'), which consists of 13 directors, each of whom shall be knowledgeable or experienced in the environment, education and/or training. The Board oversees the activities of the Foundation and assures that the activities of the Foundation are consistent with the environmental and education goals and policies of the Environmental Protection Agency and with the intents and purposes of the Act. The membership of the Board, to the extent practicable, represents diverse points of view relating to environmental education and training. Members of the Board are appointed by the Administrator of the Environmental Protection Agency.

Within 90 days of the date of the enactment of the National Environmental Education Act, and as appropriate thereafter, the Administrator will publish in the Federal Register an announcement of appointments of Directors of the Board. Such appointments become final and effective 90 days after publication in the Federal Register. The directors are appointed for terms of 4 years. The term may be renewed once for an additional four years, pending successful re-election by the NEEF nominating committee. The Administrator shall appoint an individual to serve as a director in the event of a vacancy on the Board within 60 days of said vacancy in the manner in which the original appointment was made. No individual may serve more than 2 consecutive terms as a director.

Dated: June 28, 2012.
Lisa P. Jackson,
Administrator.

Wonya Lucas

Ms. Wonya Y. Lucas has been Chief Executive Officer and President of TV One, LLC since August 08, 2011. Ms. Lucas was most recently Executive Vice President of Discovery Channel, Chief Operating Officer of Discovery Channel, Executive Vice President of Science Channel and Chief Operating Officer of Science Channel at Discovery Communications Holding, LLC since June 2010. She served as Chief Marketing Officer of Discovery Communications Holding, LLC from March 24, 2008 to June 2010.

Prior to joining Discovery Communications in 2008, Lucas served as General Manager and Executive Vice President of The Weather Channel Networks, where she was responsible for corporate strategy and development, strategic marketing for The Weather Channel and weather.com, and operations and programming for The Weather Channel, The Weather Channel HD, Weatherscan, The Weather Channel Radio Network, and newspaper syndication.

Before joining The Weather Channel in 2002 as Executive Vice President of Marketing, Lucas held several positions at Turner Broadcasting System, including Senior Vice President of Strategic Marketing for CNN Networks and Vice President of Business Operations and Network Development for TBS, TNT, Turner Classic Movies and Turner South. Her other experience includes brand management for The Coca-Cola Company and The Clorox Company.

In 2010, Lucas was named among the “75 Most Powerful Women in Business” by Black Enterprise magazine. Previous honors include listing among the 2009 “Leading Women in Business” and “Leading Minorities in Business” by Cablefax Daily, recognition as a “Woman To Watch” by Women in Cable Telecommunications, a Brand Builders Award at the 2006 Promax & BDA Conference, recognition as a “Women To Watch” in the 2005 Wonder Women of Cable TV Awards, and the Inspiration Award for “Woman of the Year” in the WICT-Atlanta's 2007 Red Letter Awards. Lucas serves on the Board of Directors of the Cable & Telecommunications Association for Marketing and she was the co-chairperson for the 2007 CTAM Summit. She also has served as a board member for WICT, Inc. and is a graduate of the Betsy Magness Leadership Institute.

Ms. Lucas earned a master's degree in business administration from the University of Pennsylvania's Wharton School of Business and a bachelor's degree in Industrial Engineering from Georgia Institute of Technology.

[FR Doc. 2012-17661 Filed 7-18-12; 8:45 am]

BILLING CODE 6560-50-P